FEDERAL TRADE COMMISSION

Granting of Request for Early Termination of the Waiting Period Under the Premerger Notification Rules

Section 7A of the Clayton Act, 15 U.S.C. 18a, as added by title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—12/30/2002
20030207 | Albert G. Lowenthal | Canadian Imperial Bank of Commerce | Canadian Imperial Bank of Commerce.
20030212 | General Motors Corporation | DaimlerChrysler AG | New Venture Gear of Indiana, LLC.
20030215 | The Dun & Bradstreet Corporation | Hoover's, Inc | Hoover's, Inc.
20030225 | Blackstone Capital Partners IV Merchant Banking Fund L.P | Northrop Grumman Corporation | Automotive Holdings Corp.
20030230 | Barry Diller | Entertainment Publications, Inc | Entertainment Publications, Inc.
20030231 | AmerisourceBergen Corporation | Whitney V, L.P | US Bioservices Corporation.
20030233 | MDU Resources Group, Inc | PG&E Corporation | Mountain View Power Partners, LLC.
20030234 | David H. Murdock | Dole Food Company, Inc | Dole Food Company, Inc.
Transactions Granted Early Termination—01/02/2003
20030239 | Sumitomo Corporation | Marubeni Corporation | Mitchell Distributing Company LLC.
20030240 | Kerry Group plc | A.M. Todd Group, Inc | SurPure, Ltd.
20030243 | Kerry Group plc | Hadi B. Lashkajani | SunPure, Ltd.
Transactions Granted Early Termination—01/06/2003
20030221 | Friedman, Billings, Ramsey Group, Inc | FBR Asset Investment Corporation | FBR Asset Investment Corporation.
20030222 | FBR Asset Investment Corporation | Friedman, Billings, Ramsey Group, Inc | Friedman, Billings, Ramsey Group, Inc.
Transactions Granted Early Termination—01/07/2003
20030227 | UCB S.A | Solutia Inc | Solutia Inc.
20030238 | Groupe Danone | Stonyfield Farm, Inc | Stonyfield Farm, Inc.
20030248 | Phillips-Van Heusen Corporation | Calvin Klein, Inc | Calvin Klein, Inc.
20030250 | ALLTEL Corporation | N. Eric Jorgensen | Cellular XL Associates, L.P.
20030251 | Apax Excelsior VI, L.P | Phillips-Van Heusen Corporation | Phillips-Van Heusen Corporation.
20030252 | Apax Europe V-A, L.P | Phillips-Van Heusen Corporation | Phillips-Van Heusen Corporation.
20030258 | Liberty Media Corporation | Wildblue Communications, Inc | Wildblue Communications, Inc.
20030259 | Intelsat, Ltd | Wildblue Communications, Inc | Wildblue Communications, Inc.
Transactions Granted Early Termination—01/09/2003
20030260 | KKR Millennium Fund L.P | DTE Energy Company | International Transmission Company.
Transactions Granted Early Termination—01/10/2003
20030262 | Entravision Communications Corporation | Stuart and Anita Subotnick | Big City Radio.
20030263 | Emanuel J. Freidman | Foster Merger Corporation | Foster Merger Corporation.
20030264 | Dairy Farmers of America, Inc | Dairy Farmers of America, Inc | Milk Products, LP.
20030265 | Osborne Jay Call | St. Mary Land & Exploration Company | St. Mary Land & Exploration Company.
20030266 | Household International, Inc | Gottschalks, Inc | Gottschalks, Inc.
20030267 | GTCR Fund VII, L.P | William Blair Capital Partners V, L.O | MGP Holding Corp.
20030271 | ING Furman Selz Investors III L.P | Roadway Corporation | Arnold Transportation Services, Inc.
Transactions Granted Early Termination—01/13/2003
20030269 | Harry J. Pappas | Harry J. Pappas | Hispanic America of Houston, LLC. Hispanic America of San Francisco, LLC.
Transactions Granted Early Termination—01/14/2003
20030261 | GTCR Fund VI, L.P | Integrated Health Services, Inc., (Debtor-in-Possession) | IHS Long Term Care, Inc. IHS Therapy Care, Inc.
Transactions Granted Early Termination—01/17/2003
20030245 | Berkshire Hathaway Inc | Wabash National Corporation | Apex Trailer Leasing & Rentals, L.P.
20030281 | VERITAS Software Corporation | Precise Software Solutions Ltd | Precise Software Solutions Ltd.
Transactions Granted Early Termination—01/21/2003
20030276 | Welsh, Carson, Anderson & Stowe IX, L.P | AmeriPath, Inc | AmeriPath, Inc.
20030277 | Welsh, Carson, Anderson & Stowe IX, L.P | NewCo | NewCo.
20030278 | Universal American Financial Corp | Ceres Group, Inc | The Pyramid Life Insurance Company.
20030284 | ABRY Broadcast Partners II, L.P | Morris Network, Inc | Morris Network of Alabama, Inc. United Broadcasting Corporation.
20030285 | Eastman Kodak Company | Donald J. Burrell | Burrell Colour, Inc.
20030297 | Itron, Inc | Silicon Energy Corp | Silicon Energy Corp.
Transactions Granted Early Termination—01/27/2003
20030289 | Morgan Stanley Dean Witter Capital partners IV, L.P | Michael Pardy | Southern Care Birmingham, Inc. Southern Care Hospice, Inc. Southern Care Newton, Inc. Southern Hospice Care, Inc. SouthernCare Systems, Inc.
20030291 | Berkshire Fund VI, Limited Partnership | Acosta, Inc | Acosta, Inc.
20030292 | Berkshire Fund V, Limited Partnership | Acosta, Inc | Acosta, Inc.
20030293 | Nautic Partners V, L.P | Cortec Group Fund III, L.P | Gaymar Holdings, Inc.
20030300 | K2 Inc | Rawlings Sporting Goods Company, Inc | Rawlings Sporting Goods Company, Inc.
20030301 | Sanmina-SCI Corporation | International Business Machines Corporation | International Business Machines Corporation.
20030309 | Tribune Company | ACME Communications, Inc | ACME Television Holdings of Missouri, Inc (v/s). ACME Television Licenses of Oregon, LLC (Assets). ACME Television of Oregon, LLC (Assets).
Transactions Granted Early Termination—01/28/2003
20030304 | Solectron Corporation | R-2 Group Holdings LLC | Electron Manufacturing Services, Inc.
20030311 | Silgan Holdings, Inc | Amcor Limited | Amcor White Cap, LLC.
20030312 | Ronald O. Perelman | SpectaGuard Acquisition LLC | SpectaGuard Acquisition LLC.
Transactions Granted Early Termination—01/30/2003
20030296 | EPIQ Systems, Inc | Bankruptcy Services LLC | Bankruptcy Services LLC.
Transactions Granted Early Termination—01/31/2003
20020479 | Dainippon Ink and Chemicals, Incorporated | Bayer AG | Bayer Corporation.
20030270 | Quadrangle Capital Partners LP | Cablevision Systems Corporation | Cablevision Systems Corporation.
20030286 | Watson Pharmaceuticals, Inc | Novartis AG | Novartis Pharma AG. Novartis Pharmaceuticals Corporation.
20030331 | Valassis Communications, Inc | Prudential plc | NCH Marketing Services, Inc.
20030338 | Great Lakes Chemical Corporation | Dean A. Kelly | Lime-O-Sol Company.
20030339 | Great Lakes Chemical Corporation | James L. Godschalk, Jr | Lime-O-Sol Company.
Transactions Granted Early Termination—02/03/2003
20030298 | SunGard Data Systems Inc | Michael Picozzi, III | Andover Brokerage, LLC.
20030322 | Pfizer Inc | Eyetech Pharmaceuticals, Inc | Eyetech Pharmaceuticals, Inc.
20030323 | Fidelity National Financial, Inc | Private Equity Investors III, L.P | Lender's Service Holdings, Inc. Lender's Service, Inc.
20030324 | Fidelity National Financial, Inc | Equity-Linked Investors-II | Lender's Service Holdings, Inc. Lender's Service, Inc.
20030337 | Collins Stewart Holdings plc | Tullett plc | Tullett plc.
Transactions Granted Early Termination—02/04/2003
20030321 | Fomento Economico Mexicano, S.A. de C.V. | Panamerican Beverages, Inc | Panamerican Beverages, Inc.
20030330 | Mr. Graeme Hart | Burns, Philip & Company Limited | Burns, Philip & Company Limited.
Transactions Granted Early Termination—02/05/2003
20030128 | Pilot Corporation | The Williams Companies, Inc | Williams TravelCenters, Inc.
Transactions Granted Early Termination—02/07/2003
20030129 | Marathon Oil Corporation | The Williams Companies, Inc | Williams TravelCenters, Inc.
Transactions Granted Early Termination—02/10/2003
20030189 | The Lundbeck Foundation | Synaptic Pharmaceutical Corporation | Synaptic Pharmaceutical Corporation.
20030280 | Verizon Communications Inc | Cablevision Systems Corporation | Boston Holding, LLC. New York PCS Holding, LLC. Northcoast Communications, L.L.C.
20030340 | Fidelity National Financial, Inc | ANFI, Inc | ANFI, Inc.
20030343 | Level 3 Communications, Inc | Carl C. Icahn | XO Communications, Inc.
20030353 | Heartland Industrial Partners, L.P | Linsalata Capital Partners Fund II, L.P | Highland Group Corporation.
20030354 | Prudential Financial, Inc | Skandia Insurance Company Ltd. (publ) | Skandia U.S. Inc.
Transactions Granted Early Termination—02/12/2003
20030328 | Pearson plc | The McGraw-Hill Companies, Inc | S&P Comstock, Inc.
20030342 | Manulife Financial Corporation | Canada Life Financial Corporation | Canada Life Financial Corporation.
20030345 | The Coca-Cola Company | Coca-Cola Enterprises Inc | Truesdale Packaging Company LLC.
20030349 | Forrester Research, Inc | Giga Information Group, Inc | Giga Information Group, Inc.
20030356 | Nichimen Corporation | Nissho Iwai Corporation | Nissho Iwai Corporation.
20030357 | Nissho Iwai Corporation | Nichimen Corporation | Nichimen Corporation.
20030359 | ALLTEL Corporation | Cellular North Michigan Network General Partnership | Cellular North Michigan Network General Partnership.
Transactions Granted Early Termination—02/14/2003
20030305 | Sunrise Assisted Living, Inc | Marriott International, Inc | Marriott Senior Living Services, Inc.
20030326 | Hertal Acquisition plc | Riverdeep Group plc | Riverdeep Group plc.
20030347 | The Bank of New York Company, Inc | Credit Suisse Group | iNautix Technologies, LLC. Pershing Limited. Pershing LLC. Pershing Trading Company, L.P.
20030362 | ALLTEL Corporation | Fidelity National Financial, Inc | Fidelity National Financial, Inc.
20030363 | Fidelity National Financial, Inc | ALLTEL Corporation | ALLTEL Information Services, Inc.
20030369 | Energizer Holdings, Inc | Pfizer Inc | N.V. Wilkinson Sword S.A. (Belgium). Pfizer Inc. Schnick North America, Inc. Warner-Lambert Trading Co. Ltd. (Hong Kong). Wilkinson Sword—Productos de Higiene, Lda (Portugal).
|  |  | Wilkinson Sword GmbH (Austria). Wilkinson Sword GmbH (Germany). Wilkinson Sword Limited (UK). Wilkinson Sword S.A.E. (Spain). Wilkinson Sword S.p.A. (Italy).
|  |  | Wilkinson Sword Verwaltungs-GmbH (Germany). Wilkinson-Sword B.V. (Netherlands).
20030376 | Valero L.P | Valero Energy Corporation | Valero Pipeline Company. Valero refining Company-California. Valero Refining-Texas, L.P.
20030379 | Canadian Oil Sands Trust | EnCana Corporation | AEC Oil Sands GP Ltd.
Transactions Granted Early Termination—02/19/2003
20030368 | Qwest Communications International Inc | Qwest Communications International Inc | TW Wireless, L.L.C.
Transactions Granted Early Termination—02/20/2003
20030348 | Techtronic Industries Co., Ltd | Royal Appliance Mfg. Co | Royal Appliance Mfg. Co.
Transactions Granted Early Termination—02/21/2003
20030344 | Odyssey Investment Partners Fund, LP | Trans Technology Corporation | Norco, Inc.
20030364 | National Bedding Company | Citigroup Inc | Sleepmaster LLC.
20030377 | Morgenthaler Partners VI, L.P | WCM Beteiligungs—und Grundbesitz—Aktiengesellschaft | MPI International Inc.
20030378 | Matrix Service Company | Frank W. Hake, II | Hake Group, Inc.

FOR FURTHER INFORMATION CONTACT: Sandra M. Peay or Renee A. Hallman, Contact Representative, Federal Trade Commission, Premerger Notification Office, Bureau of Competition, Room 303, Washington, DC 20580. (202) 326-3100.

By Direction of the Commission.
Donald S. Clark,
Secretary.

[FR Doc. 03-6077 Filed 3-12-03; 8:45 am]

BILLING CODE 6750-01-M